FEDERAL COMMUNICATIONS COMMISSION

47 CFR Parts 1, 20, 22, 24, 27, and 90

[WT Docket No. 10-4; FCC 13-21]

Signal Booster Rules

AGENCY: Federal Communications Commission.

ACTION: Final rule; announcement of effective date.

SUMMARY: In this document, the Office of Management and Budget (OMB) has approved, for a period of three years, the information collections associated with the Commission's rules to improve wireless coverage through the use of signal boosters. This notice is consistent with the Report and Order, which stated that the Commission would publish a document in the Federal Register announcing the effective date of those rules.

DATES: The amendments to §§ 1.1307(b)(1), 20.3,20.21(a)(2), 20.21(a)(5), 20.21(e)(2), 20.21(e)(8)(i)(G), 20.21(e)(9)(i)(H), 20.21(f), 20.21(h), 22.9, 24.9, 27.9, 90.203(q), 90.219(b)(1)(i), 90.219(d)(5), and 90.219(e)(5), published at 78 FR 21555, April 11, 2013, are effective September 11, 2013.

FOR FURTHER INFORMATION CONTACT: For additional information, please contact Joyce Jones, Mobility Division, Wireless Telecommunications Bureau, at (202) 418-1327, or email: joyce.jones@fcc.gov.

SUPPLEMENTARY INFORMATION: This document announces that, on August 21, 2013, OMB approved, for a period of three years, the new information collection requirements contained in the Commission's Report and Order, FCC 13-21, and released on February 20, 2013, in WT Docket No. 10-4, regarding Signal Boosters.

Synopsis

As required by the Paperwork Reduction Act of 1995 (44 U.S.C. 3507), the Commission is notifying the public that it received OMB approval on August 21, 2013, for the information collection requirements contained in the modifications to the Commission's rules in 47 CFR parts 1, 20, 22, 24, 27, and 90. Under 5 CFR part 1320, an agency may not conduct or sponsor a collection of information unless it displays a currently valid OMB control number. The OMB control number is 3060-1189. The foregoing notice is required by the Paperwork Reduction Act of 1995, Public Law 104-13, October 1, 1995, and 44 U.S.C. 3507.

The total annual reporting burdens and costs for the respondents are as follows:

OMB Control Number: 3060-1189.

OMB Approval Date: August 21, 2013.

Expiration Date: August 31, 2016.

Title: Sections 1.1307(a), 20.3, 20.21(a)(2), 20.21(a)(5), 20.21(e)(2), 20.21(e)(8)(i)(G), 20.21(e)(9)(i)(H),20.21(f), 20.21(h), 90.203, 90.219(b)(1)(i), 90.219(d)(5) and 90.219(e)(5) of the Commission's rules concerning Signal Boosters.

Form No.: Not applicable.

Number of Respondents/Responses: 634,595.

Estimated Time per Response: .5 to 40 hours.

Total Annual Burden: 324,370 hours.

Total Annual Cost: $232,986.

Obligation to Respond: Required to obtain or retain benefits. Statutory authority for this collection of information is contained in Sections 4(i), 303(g), 303(r), and 332(a) of the Communications Act of 1934, as amended, 47 U.S.C. 154(i), 303(g), 303(r), 332(a).

Nature and Extent of Confidentiality: There is a need for confidentiality with respect to individuals who register with their wireless carriers. Pursuant to 47 U.S.C. 222(h)(1)(A) and part 64 of the Commission's rules, 47 CFR 64.2001 et.seq., telecommunications carriers are required to protect Customer Proprietary Network Information (CPNI).

Privacy Act: The information collection associated with the registration requirement contained in Section 20.21(a)(2) of the Commission's rules affects individuals or households; thus, there are impacts under the Privacy Act. However, the government is not directly collecting this information and the R&O directs carriers to protect the information to the extent it is considered CPNI.

Needs and Uses

Provider Reporting Requirement: In order to facilitate review of wireless providers' behavior regarding Consumer Signal Boosters, the R&O requires that on March 1, 2015, and March 1, 2016, all nationwide wireless providers publicly indicate their status regarding consent for each Consumer Signal Booster that has received FCC certification as listed in a Public Notice to be released by the Wireless Telecommunications Bureau 30 days prior to each reporting date. For each listed Consumer Signal Booster, wireless providers should publicly indicate whether they (1) consent to use of the device; (2) do not consent to use of the device; or (3) are still considering whether or not they will consent to the use of the device.

Registration Requirements

Section 20.21(a)(2)—The rules require signal booster operators to register Consumer Signal Boosters, existing and new, with their serving wireless providers prior to operation. This is a mandatory requirement to continue or begin operation of a Consumer Signal Booster. The registration requirement will aid in interference resolution and facilitate provider control over Consumer Signal Boosters.

As noted on the Form OMB 83-I, this information collection affects individuals or households; thus, there are impacts under the Privacy Act. However, the government is not directly collecting this information and the R&O directs carriers to protect the information to the extent it is considered CPNI.

Section 20.21(h)—By March 1, 2014, all providers who voluntarily consent to the use of Consumer Signal Boosters on their networks must establish a free registration system for their subscribers. At a minimum, providers must collect (1) The name of the Consumer Signal Booster owner and/or operator, if different individuals; (2) the make, model, and serial number of the device; (3) the location of the device; and (4) the date of initial operation. Otherwise, the Commission permits providers to develop their own registration systems to facilitate provider control and interference resolution, providers should collect only such information that is reasonably related to achieving these dual goals. Wireless providers may determine how to collect such information and how to keep it up-to-date.

Section 90.219(d)(5)—This rule requires operators of part 90 Class B signal boosters to register these devices in a searchable on-line database that will be maintained and operated by the Wireless Telecommunications Bureau via delegated authority from the Commission. The Commission believes this will be a valuable tool to resolve interference should it occur.

Labeling Requirements

Sections 20.21(a)(5), 20.21(f), 90.219(e)(5)—In order to avoid consumer confusion and provide consumers with needed information, the Commission adopted labeling requirements for Consumer and Industrial Signal Boosters. Consumer Signal Boosters must be labeled to identify the device as a “consumer” device and make the consumer aware that the device must be registered; may only be operated with the consent of the consumer's wireless provider; may only be operated with approved antennas and cables; and that E911 communications may be affected for calls served by using the device. Industrial Signal Boosters must include a label stating that the device is not a consumer device, is designed for installation by FCC licensees or a qualified installer, and the operator must have a FCC license or consent of a FCC licensee to operate the device. Accordingly, all signal boosters marketed on or after March 1, 2014, must include the advisories (1) In on-line point-of-sale marketing materials; (2) in any print or on-line owner's manual and installation instructions; (3) on the outside packaging of the device; and (4) on a label affixed to the device. Part 90 signal boosters marketed or sold on or after March 1, 2014, must include a label stating that the device is not a consumer device; the operator must have a FCC license or consent of a FCC licensee to operate the device; the operator must register Class B signal boosters; and unauthorized use may result in significant forfeitures.

Section 1.1307(b)(1)—Radiofrequency (RF). This rule requires that a label is affixed to the transmitting antenna that provides adequate notice regarding potential RF safety hazards and references the applicable FCC-adopted limits for RF exposure.

Certification Requirements

Sections 20.3, 20.21(e)(2), 20.21(e)(8)(i)(G), 20.21(e)(9)(i)(H), 90.203—These rules, in conjunction with the R&O, require that signal booster manufacturers demonstrate that they meet the new technical specifications using the existing and unchanged equipment authorization application, including submitting a technical document with the application for FCC equipment authorization that shows compliance of all antennas, cables and/or coupling devices with the requirements of § 20.21(e). The R&O further provides that manufacturers must make certain certifications when applying for device certification. Manufacturers must provide an explanation of all measures taken to ensure that the technical safeguards designed to inhibit harmful interference and protect wireless networks cannot be deactivated by the user. The R&O requires that manufacturers of Provider-Specific Consumer Signal Boosters may only be certificated with the consent of the licensee so the manufacturer must certify that it has obtained such consent as part of the equipment certification process. The R&O also requires that if a manufacturer claims that a device will not affect E911 communications, the manufacturer must certify this claim during the equipment certification process. Note: The “application for equipment” certification requirements are met under OMB Control Number 3060-0057, FCC Form 731.

Antenna Kitting Documentation Requirement

Sections 20.21(e)(8)(i)(G), 20.21(e)(9)(i)(H)—The rules require that all consumer boosters must be sold with user manuals specifying all antennas and cables that meet the requirements of this section.

Part 90 Licensee Consent Documentation Requirement

Section 90.219(b)(1)(i)—This rule requires that non-licensees seeking to operate part 90 signal boosters must obtain the express consent of the licensee(s) of the frequencies for which the device or system is intended to amplify. The rules further require that such consent must be maintained in a recordable format that can be presented to a FCC representative or other relevant licensee investigating interference.

The Commission will use the information collected from the provider reporting requirement to assess providers' treatment of Consumer Signal Boosters, including the level of consumer access. This information will inform the Commission's decision whether it is necessary to revisit the Consumer Signal Booster authorization mechanism. The provider-based registration requirement will facilitate licensee control over Consumer Signal Boosters, help providers rapidly resolve interference issues, and assist in consumer outreach. The labeling and marketing requirements will inform signal booster operators of their legal responsibilities, facilitate coordination with providers, and assist in interference prevention. The part 90 registration requirement will help resolve interference should it occur. The RF labeling requirement will inform consumers about the potential RF safety hazards and references the applicable FCC-adopted limits for RF exposure. The certification requirements will ensure that manufacturers comply with our new technical rules for Consumer and Industrial Signal Boosters. The antenna kitting documentation requirement will aid consumers in the correct installation and use of their devices so as to mitigate interference. The consent documentation requirement will ensure that signal booster operators have the proper authority to operate their devices.

Federal Communications Commission.
Marlene H. Dortch,
Secretary.

[FR Doc. 2013-22121 Filed 9-10-13; 8:45 am]

BILLING CODE 6712-01-P